DEPARTMENT OF LABOR

Employment and Training Administration

[TA-W-39,063]

Grove U.S., LLC, Shady Grove, PA; Amended Certification Regarding Eligibility to Apply for Worker Adjustment Assistance

In accordance with Section 223 of the Trade Act of 1974 (19 U.S.C. 2273) the Department of Labor issued a Certification of Eligibility to Apply for Worker Adjustment Assistance on April 30, 2001, applicable to workers producing scissor aerial work platforms at Grove U.S., LLC, Shady Grove, Pennsylvania. The notice was published in the Federal Register on May 18, 2001 (66 FR 27690).

At the request of State agency, the Department reviewed the certification for workers of the subject firm. The workers produce aerial work platforms. New information provided by the company show that workers of the subject firm are not separately identifiable by product line.

The intent of the certification is to provide coverage to all workers of the subject firm impacted by increased imports of articles like or directly competitive with those produced by the workers' firm. Therefore, the Department is amending the certification to provide coverage to all workers separated from employment at the subject firm, and not limit the coverage to those workers producing scissor aerial work platforms.

The amended notice applicable to TA-W-39,063 is hereby issued as follows:

“All workers of Grove U.S., LLC, Shady Grove, Pennsylvania, who became totally or partially separated from employment on or after March 28, 2000, through April 30, 2003, are eligible to apply for adjustment assistance under Section 233 of the Trade Act of 1974.”

Signed in Washington, DC this 6th day of June 2001.
Edward A. Tomchick,
Director, Division of Trade Adjustment Assistance.

[FR Doc. 01-16154 Filed 6-26-01; 8:45 am]

BILLING CODE 4510-30-M